DEPARTMENT OF HEALTH AND HUMAN SERVICES

Centers for Disease Control and Prevention

[30-Day 14-13AHL]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Colorectal Cancer Screening Survey—New—National Center for Chronic Disease Prevention and Health Promotion (NCCDPHP), Centers for Disease Control and Prevention (CDC).

Background and Brief Description

The Centers for Disease Control (CDC) plans to conduct a study to improve understanding of the reasons that individuals do not get screened for colorectal cancer (CRC). CRC is the second leading cause of cancer related death in the U.S. and early screening can prevent deaths, but screening rates are low. Screening for CRC is recommended for adults starting at age 50. However, as of 2008, only 62.9% of adults aged 50-75 years were screened as recommended.

CDC requests OMB approval to pretest and field the Colorectal Cancer Screening Survey, which will collect information on individuals' preferences for different characteristics of CRC screening tests; and how these preferences are affected by CRC risk perceptions, real-life experiences with CRC screening, and exposure to two different fact sheets on CRC screening.

Information collection will involve a Web-based survey. Preferences for screening tests with different attributes will be measured using the stated-preference discrete choice experiment (DCE) survey approach (also known as conjoint analysis). The DCE format presents respondents with choices between hypothetical CRC tests that vary along key attributes. The attributes that will be assessed for CRC screening tests are: (1) What the test can find, (2) how often an individual can take the test, (3) whether the test can remove cancer and polyps (4) preparation before the test, (5), discomfort and activity limitations during and after the test, and (6) cost of the test. Results will be analyzed to quantify the rate at which respondents are willing to trade-off one attribute for another and to rank the importance of attributes and changes in attribute levels. The DCE questions will include the choice of not getting a test to explore the factors that influence the desire to get screening tests. The impact of respondent risk perceptions and experience with CRC screening on preferences for CRC screening tests and willingness to get a test in the future will be tested.

The survey will also collect information to measure the impact of selected educational materials on preferences for CRC screening tests. Each respondent will be randomly assigned to one of three information treatments: (1) A control group that receives no additional information about CRC screening, (2) a treatment group that receives a “No Excuses” educational flyer designed to dispel many common reasons for not getting a colonoscopy, or (3) a treatment group that receives a two-page Fact Sheet about CRC and screening options. The flyer and fact sheet were developed in conjunction with CDC's Screen for Life program.

Information will be collected primarily from a sample of 2,000 adults aged 50-75 through a Web-based survey administered by GfK Knowledge Networks (KN). The estimated burden per response is 22-25 minutes. Respondents will be randomly selected from the KN KnowledgePanel®. A pre-test of study procedures will be conducted prior to initiating the main study.

CDC is authorized to conduct this information collection under the Public Health Service Act (42 U.S.C. 241) Section 301. Results from this study will enhance understanding of public preferences for CRC screening tests, and the impact of education materials, risk perceptions, and real-life experiences on CRC screening preferences. Such information will help CDC and other public health policy makers to design, develop, and implement more effective programs to improve rates of CRC screening among average risk individuals.

OMB approval is requested for one year. Participation is voluntary and there are no costs to respondents other than their time. The total estimated burden hours are 812.

Estimated Annualized Burden Hours
Type of respondent | Form name | No. of respondents | No. of responses per respondent | Average burden per response (in hr)
Pre-Test Participants | Colorectal Cancer Screening Survey—control group (no information treatment) | 10 | 1 | 22/60
| Colorectal Cancer Screening Survey—information treatment groups | 20 | 1 | 25/60
Study Participants | Colorectal Cancer Screening Survey—control group (no information treatment) | 667 | 1 | 22/60
| Colorectal Cancer Screening Survey—information treatment groups | 1,333 | 1 | 25/60

Leroy A. Richardson,
Chief, Information Collection Review Office, Office of Scientific Integrity, Office of the Associate Director for Science, Office of the Director, Centers for Disease Control and Prevention.

[FR Doc. 2014-10931 Filed 5-12-14; 8:45 am]

BILLING CODE 4163-18-P